DEPARTMENT OF DEFENSE

Office of the Secretary

Department of Defense Federal Advisory Committees—Defense Advisory Committee for the Prevention of Sexual Misconduct

AGENCY: Under Secretary of Defense for Personnel and Readiness, Department of Defense (DoD).

ACTION: Notice of Federal Advisory Committee meeting.

SUMMARY: The DoD is publishing this notice to announce that the following Federal Advisory Committee meeting of the Defense Advisory Committee for the Prevention of Sexual Misconduct (DAC-PSM) will take place.

DATES: DAC-PSM will hold a meeting open to the public on Thursday, March 2, 2023 from 1:00 p.m. to 5:00 p.m. (EST).

ADDRESSES: The meeting may be accessed by videoconference. Information for accessing the videoconference will be provided after registering. (Pre-meeting registration is required. See guidance in SUPPLEMENTARY INFORMATION, “Meeting Accessibility”.)

FOR FURTHER INFORMATION CONTACT: Dr. Suzanne Holroyd, Designated Federal Officer (DFO), (571) 372-2652 (voice), osd.mc-alex.ousd-p-r.mbx.DAC-PSM@mail.mil (email). Website: www.sapr.mil/DAC-PSM. The most up-to-date changes to the meeting agenda can be found on the website.

SUPPLEMENTARY INFORMATION: This meeting is being held under the provisions of chapter 10 of title 5 U.S.C. (commonly known as the Federal Advisory Committee Act (FACA) (5 U.S.C. app.)), section 552b(c) of title 5 U.S.C. (commonly known as the Government in the Sunshine Act), and sections 102-3.140 and 102-3.150 of 41 CFR.

Availability of Materials for the Meeting: Additional information, including the agenda or any updates to the agenda, is available on the DAC-PSM website (www.sapr.mil/DAC-PSM). Materials presented in the meeting may also be obtained on the DAC-PSM website.

Purpose of the Meeting: The purpose of the meeting is for the DAC-PSM to receive briefings and have discussions on topics related to the prevention of sexual misconduct within the Armed Forces of the United States.

Agenda: Thursday, March 2, 2023 from 1:00 p.m. to 5:00 p.m. (EST)—Meeting Open (Roll Call and Opening Remarks by Chair, The Honorable Gina Grosso); Panel Discussions with Services Representatives (Air Force, Army, Navy, Marine Corps, and National Guard Bureau) to discuss submissions in support of training study directed by FY22 NDAA; Committee Discussion on training study directed by FY22 NDAA.

Meeting Accessibility: Pursuant to section 1009(a)(1) of title 5 U.S.C. and 41 CFR 102-3.140 through 102-3.165, this meeting is open to the public from 1:00 p.m. to 5:00 p.m. (EST) on March 2, 2023. The meeting will be held by videoconference. All members of the public who wish to attend must register by contacting DAC-PSM at osd.mc-alex.ousd-p-r.mbx.DAC-PSM@mail.mil or by contacting Dr. Suzanne Holroyd at (571) 372-2652 no later than Monday, February 27, 2023 (by 5:00 p.m. EST). Once registered, the web address and/or audio number will be provided.

Special Accommodations: Individuals requiring special accommodations to access the public meeting should contact Dr. Suzanne Holroyd at osd.mc-alex.ousd-p-r.mbx.DAC-PSM@mail.mil or (571) 372-2652 no later than Monday, February 27, 2023 (by 5:00 p.m. EST) so that appropriate arrangements can be made.

Written Statements: Pursuant to section 102-3.140 of 41 CFR, and section 1009(a)(3) of title 5 U.S.C., interested persons may submit a written statement to the DAC-PSM. Individuals submitting a statement must submit their statement no later than 5:00 p.m. EST, Monday, February 27, 2023 to Dr. Suzanne Holroyd at (571) 372-2652 (voice) or to osd.mc-alex.ousd-p-r.mbx.DAC-PSM@mail.mil (email). If a statement pertaining to a specific topic being discussed at the planned meeting is not received by Monday, February 27, 2023, prior to the meeting, then it may not be provided to, or considered by, the Committee during the March 2, 2023 meeting. The DFO will review all timely submissions with the DAC-PSM Chair and ensure such submissions are provided to the members of the DAC-PSM before the meeting. Any comments received by the DAC-PSM prior to the stated deadline will be posted on the DAC-PSM website (www.sapr.mil/DAC-PSM).

Dated: February 9, 2023.
Aaron T. Siegel,
Alternate OSD Federal Register Liaison Officer, Department of Defense.

[FR Doc. 2023-03129 Filed 2-13-23; 8:45 am]

BILLING CODE 5001-06-P